DEPARTMENT OF DEFENSE

Department of the Army

Army Science Board Partially Closed Meeting Notice

AGENCY: Department of the Army, DoD.

ACTION: Notice of a partially closed meeting.

SUMMARY: Pursuant to the Federal Advisory Committee Act of 1972, the Government in the Sunshine Act of 1976 and title 41 of the Code of Federal Regulations, the Department of the Army announces a meeting of the Army Science Board.

FOR FURTHER INFORMATION CONTACT: Army Science Board, Designated Federal Officer, 2530 Crystal Drive, Suite 7098, Arlington, VA 22202; LTC Stephen K. Barker, the committee's Designated Federal Officer (DFO), at (703) 545-8652 or email: stephen.k.barker.mil@mail.mil, or Mr. Paul Woodward at (703) 695-8344 or email: paul.j.woodward2.civ@mail.mil.

SUPPLEMENTARY INFORMATION: Pursuant to the Federal Advisory Committee Act of 1972 (5 U.S.C., Appendix, as amended), the Government in the Sunshine Act of 1976 (U.S.C. 552b, as amended) and 41 Code of Federal Regulations (CFR) § 102-3.140 through 160, the Department of the Army announces the following committee meeting:

Name of Committee: Army Science Board (ASB) Summer Voting Session.

Date: Thursday, July 16, 2015.

Time: 0800-1630.

Locations:

Open portion: Antlers Hilton, Four South Cascade, Colorado Springs, CO 80903-1685 from 0830-1200.

Closed portion: Fort Carson Colorado, Room 107, Building 1435, 6150 Wetzel Ave, Fort Carson, CO 80913 from 1400-1630.

Purpose of Meeting: The purpose of the meeting is for ASB members to review, deliberate, and vote on the findings and recommendations presented for the Board's five Fiscal Year 2015 (FY15) studies.

Agenda: The board will present findings and recommendations for deliberation and vote on the following five FY15 studies:

Army Cyber at the Tactical Edge. This study is classified and will be presented in the closed meeting. The purpose of this study is to further identify the challenges, both technical and doctrinal, unique to Army tactical edge cyber operations at the Corps-level and below, and to propose what technical capabilities, new processes, training and policy changes are required to ensure the Army is postured to fight and win in cyber space from the tactical edge.

Army Science & Technology for Army Aviation 2025-2040. This study contains classified and unclassified material and will be presented in the open and closed portions of the meeting. The objective of this study is to identify and assess Science and Technology (S&T) enhancements capable of being fielded during the 2025-2040 timeframe that will increase Army Aviation's expeditionary capabilities to support full-spectrum military operations and reduce its sustainment tails and logistics footprint.

Strategies to Optimize Army Operating and Generating Forces for 2025 & Beyond. This study contains classified and unclassified material and will be presented in the open and closed portions of the meeting. The purpose of the study is to develop strategies for rebalancing the Army operating and generating force to retain or gain capabilities in the mid-term (2025) and beyond (2030-2040). This study will identify opportunities to improve the efficiency of operating force combat service support and generating force capabilities to help provide the means to invest in core operational capabilities.

Human Interaction and Behavioral Enhancement. This study is not classified and will be presented in the open portion of the meeting. The purpose of this study is to identify and asses methods and techniques to understand, interact and influence human behavior in support of Army missions.

Force 2025 and Beyond. This study is not classified and will be presented in the open portion of the meeting. This study will provide findings and recommendations for operational concepts and advanced technologies along with the associated force designs for improving and maintaining readiness, designing and conducting training, and aligning the required logistics investments.

Filing Written Statement: Pursuant to 41 CFR 102-3.140d, the Committee is not obligated to allow the public to speak; however, interested persons may submit a written statement for consideration by the Board. Individuals submitting a written statement must submit their statement to the DFO at the address listed above. Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

Public's Accessibility to the Meeting: Pursuant to 5 U.S.C. 552b and 41 CFR 102-3.140 through 3.165, and the availability of space, the open portion of this meeting is open to the public. Seating is on a first-come basis. The Antlers Hilton is fully handicapped accessible. For additional information about public access procedures, contact LTC Stephen Barker at the telephone number or email address listed in the FOR FURTHER INFORMATION CONTACT section.

Brenda S. Bowen,
Army Federal Register Liaison Officer.

[FR Doc. 2015-16167 Filed 6-30-15; 8:45 am]

BILLING CODE 3710-08-P